DEPARTMENT OF THE INTERIOR

National Park Service

Notice of Intent To Repatriate Cultural Items: Rochester Museum & Science Center, Rochester, NY

AGENCY: National Park Service, Interior.

ACTION: Notice.

Notice is here given in accordance with the Native American Graves Protection and Repatriation Act (NAGPRA), 25 U.S.C. 3005, of the intent to repatriate 13 cultural items in the possession of the Rochester Museum & Science Center, Rochester, NY, that meet the definitions of “sacred object” and object of “cultural patrimony” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

On January 1, 1928, the museum acquired two large wooden medicine faces from Alvin Dewey, Rochester, NY (AE 2870/D 8363/29.259.17 and AE 2872/D 8364/29.259.19). The Dewey catalog card states: “Onondaga Indians. From the John Kilham collection, May 23, 1919.”

On August 15, 1966, two large wooden medicine faces were donated to the museum by Mr. & Mrs. Warner Palmer, Albion, NY (AE 10315/66.222.1 and AE 10316/66.222.2). Both faces were made circa 1960, and collected by Charles Palmer.

In 1971, nine miniature wooden medicine faces were donated by the Rochester Museum Association to the museum (E 13.1.345/numbers 71.17.1-9). They are of Onondaga origin and were made circa 1970.

Onondaga Nation traditional religious leaders have identified these medicine faces as being needed for the practice of traditional Native American religions by present-day adherents. In the course of consultations with members of the Onondaga Nation, it was shown that any individual who carved a medicine face and alienated it to a third party that in turn donated or sold it to the Rochester Museum & Science Center did not have the authority to do so. Museum documentation, supported by oral evidence presented during consultation by the Onondaga Nation NAGPRA representatives and other Haudenosaunee and non-Haudenosaunee parties, indicates that these medicine faces are culturally affiliated with the Onondaga Nation, and are both sacred objects and objects of cultural patrimony.

Officials of the Rochester Museum & Science Center have determined that, pursuant to 25 U.S.C. 3001(3)(C), the 13 cultural items described above are specific ceremonial objects needed by traditional Native American religious leaders for the practice of traditional Native American religions by their present-day adherents. Officials of the Rochester Museum & Science Center have also determined that, pursuant to 25 U.S.C. 3001(3)(D), the 13 cultural items described above have an ongoing historical, traditional, or cultural importance central to the Native American group or culture itself, rather than property owned by an individual. Lastly, officials of the Rochester Museum & Science Center have determined that, pursuant to 25 U.S.C. 3001(2), there is a relationship of shared group identity that can be reasonably traced between the sacred objects/objects of cultural patrimony and the Onondaga Nation of New York.

Representatives of any other Indian Nation or tribe that believes itself to be culturally affiliated with the sacred objects/objects of cultural patrimony should contact Adele DeRosa, Rochester Museum & Science Center, Rochester, NY 14607, telephone (585) 271-4552, ext 302, before June 7, 2010. Repatriation of the sacred objects/objects of cultural patrimony to the Onondaga Nation of New York may proceed after that date if no additional claimants come forward.

The Rochester Museum & Science Center is responsible for notifying the Onondaga Nation of New York that this notice has been published.

Dated: April 27, 2010.
David Tarler,
Acting Manager, National NAGPRA Program.

[FR Doc. 2010-10371 Filed 5-6-10; 8:45 am]

BILLING CODE 4312-50-P